DEPARTMENT OF COMMERCE

International Trade Administration

[C-570-955]

Certain Magnesia Carbon Bricks From the People's Republic of China: Preliminary Results of Countervailing Duty Administrative Review; 2012

AGENCY: Enforcement and Compliance, International Trade Administration, Department of Commerce.

SUMMARY: The Department of Commerce (the Department) is conducting an administrative review of the countervailing duty order on certain magnesia carbon bricks (MCBs) from the People's Republic of China (PRC), covering the period of review (POR) January 1, 2012, through December 31, 2012. We preliminarily determine that the application of adverse facts available (AFA) to the sole mandatory respondent, Fengchi Imp. and Exp. Co., Ltd. of Haicheng City and Fengchi Refractories Co., of Haicheng City (collectively, Fengchi), and the Government of the PRC (GOC), is necessary because they failed to cooperate to the best of their ability in this proceeding. The Department also preliminarily finds that certain companies made no shipments of subject merchandise to the United States during the POR. Interested parties are invited to comment on these preliminary results.

DATES: Effective Date: June 9, 2014.

FOR FURTHER INFORMATION CONTACT: Brandon Steele, Enforcement and Compliance, International Trade Administration, U.S. Department of Commerce, 14th Street and Constitution Avenue NW., Washington, DC 20230; telephone: (202) 482-4956.

Scope of the Order

The merchandise subject to the order includes certain MCBs. Certain MCBs that are the subject of this order are currently classifiable under the following subheadings of the Harmonized Tariff Schedule of the United States (HTSUS): 6902.10.1000, 6902.10.5000, 66815.91.0000, 6815.99.2000, and 6815.99.4000. Although the HTSUS numbers are provided for convenience and customs purposes, the written product description remains dispositive. A full description of the scope of the order is contained in the memorandum to Paul Piquado, Assistant Secretary for Enforcement and Compliance from Christian Marsh, Deputy Assistant Secretary for Antidumping and Countervailing Duty Operations, “Decision Memorandum for the Preliminary Results of the Countervailing Duty Administrative Review of Certain Magnesia Carbon Bricks from the People's Republic of China,” dated concurrently with and hereby adopted by this notice (Preliminary Decision Memorandum).

The Preliminary Decision Memorandum is a public document and is made available to the public via Enforcement and Compliance's Antidumping and Countervailing Duty Centralized Electronic Service System (IA ACCESS). IA ACCESS is available to registered users at https://iaaccess.trade.gov, and is available to all parties in the Department's Central Records Unit, located in Room 7046 of the main Department of Commerce building. In addition, a complete version of the Preliminary Decision Memorandum can be found at http://enforcement.trade.gov/frn/. The signed and the electronic versions of the Preliminary Decision Memorandum are identical in content.

Preliminary Determination of No Shipments

On December 13, 2013, the Department received timely no shipment certifications from RHI AG and its affiliates: Liaoning RHI Jinding Magnesia Co.; RHI Refractories (Dalian) Co. Ltd.; RHI Refractories Liaoning Co., Ltd.; RHI Trading Shanghai Branch; and RHI Trading (Dalian) Co., Ltd. (collectively, the RHI Companies).¹ Because there is no evidence on the record to indicate that these companies had sales of subject merchandise during the POR, we preliminarily determine that the RHI Companies had no shipments during the POR. As a result, pursuant to 19 CFR 351.213(d)(3), the Department intends to rescind the review with respect to the RHI Companies. However, the Department finds that it is not appropriate to rescind the review with respect to the RHI Companies at this time; instead, consistent with our practice, the Department will complete the review with respect to the RHI Companies and issue appropriate instructions to U.S. Customs and Border Protection (CBP) based on the final results of the review.² Information on the record shows that Fengchi did have sales of subject merchandise during the POR.³

¹ See the December 13, 2013, Letter to the Secretary, “Certain Magnesia Carbon Bricks from China: Notice of No Sales.” In our Initiation Notice, we stated that any company named in the notice of initiation that had no exports, sales, or entries during the POR must notify the Department within 60 days of publication of the notice in the Federal Register. See Initiation of Antidumping and Countervailing Duty Administrative Reviews and Request for Revocation in Part, 78 FR 67104, 67104 (November 8, 2013) (Initiation Notice).

² See, e.g., Magnesium Metal from the Russian Federation: Preliminary Results of Antidumping Duty Administrative Review, 75 FR 26922, 26923 (May 12, 2010), unchanged in Magnesium Metal From the Russian Federation: Final Results of Antidumping Duty Administrative Review, 75 FR 56989 (September 17, 2010).

³ See the January 13, 2014, Memorandum to the File, “Certain Magnesia Carbon Bricks from the People's Republic of China: Customs Data of U.S. Imports of Magnesia Carbon Bricks.”

Methodology

The Department conducted this review in accordance with section 751(a)(1)(A) of the Tariff Act of 1930, as amended (the Act). For each subsidy program under review, we preliminarily determine there are countervailable subsidies, i.e., that there is a government-provided financial contribution that gives rise to a benefit to the recipient, and that the subsidy is specific.⁴ In making these findings, we relied on AFA for Fengchi, because it did not act to the best of its ability to respond to our request for information; as such, we drew an adverse inference in selecting among the facts available.⁵

⁴ See sections 771(5)(B) and (D) of the Act regarding financial contribution; section 771(5)(E) of the Act regarding benefit; and, section 771(5A) of the Act regarding specificity.

⁵ See sections 776(a) and (b) of the Act.

With respect to the remaining companies for which we initiated reviews and that did not file no-shipment certifications, we will assign to entries made by these companies the all-others rate from the investigation. Accordingly, and consistent with section 705(c)(5)(A)(ii) of the Act, we relied upon the all others rate from the investigation because the rate calculated for the sole mandatory respondent in these preliminary results of review is based entirely upon facts available. We consider the use of the all others rate from the investigation, which was based upon a calculated rate for one of the mandatory respondents in the investigation, to be a “reasonable method” for calculating the all others rate because it represents the only rate in the history of the countervailing duty order on MCBs from the PRC that is not zero, de minimis, or based entirely upon facts available.⁶

⁶ For a list of topics discussed in the Preliminary Decision Memorandum, see Appendix I. For a full description of the methodology underlying our conclusions, see the Preliminary Decision Memorandum.

Preliminary Results of Review

⁷ See Appendix II.

We preliminarily determine the following margins exist for the POR:

Company | Ad valorem net subsidy rate (percent)
Fengchi Imp. and Exp. Co., Ltd. of Haicheng City and Fengchi Refractories Co., of Haicheng City (collectively, Fengchi) | 66.27
Rate Applicable to the Remaining Companies Under Review ⁷ | 24.24

Disclosure and Public Comment

We will disclose the calculations to parties in this proceeding within five days of the date of publication of this notice in the Federal Register in accordance with 19 CFR 351.224(b). Interested parties may submit written comments (case briefs) for this administrative review no later than 30 days from the date of publication of this Federal Register notice, and rebuttal comments (rebuttal briefs) within five days after the time limit for filing case briefs.⁸ Rebuttal briefs must be limited to issues raised in the case briefs.⁹ Parties who submit case briefs or rebuttal briefs in this proceeding are encouraged to submit with each argument: (1) A statement of the issue; (2) a brief summary of the argument; and (3) a table of authorities.¹⁰

⁸ See 19 CFR 351.309(c)(1)(ii) and 19 CFR 351.309(d)(1).

⁹ See 19 CFR 351.309(d)(2).

¹⁰ See 19 CFR 351.309(c)(2) and 19 CFR 351.309(d)(2).

Interested parties who wish to request a hearing, or to participate in a hearing if one is requested, must file electronically a written request to the Assistant Secretary for Enforcement and Compliance, U.S. Department of Commerce, within 30 days after the publication of this notice in the Federal Register.¹¹ Requests should contain the party's name, address, and telephone number, the number of participants, and a list of the issues to be discussed. If a request for a hearing is made, we intend to hold it at the U.S. Department of Commerce, 14th Street and Constitution Avenue NW., Washington, DC 20230, at a time and date to be determined. Parties should confirm by telephone the date, time, and location of the hearing two days before the scheduled date.

¹¹ See 19 CFR 351.310(c).

Parties are reminded that briefs and hearing requests are to be filed electronically using IA ACCESS, and that electronically filed documents must be received successfully in their entirety by 5 p.m. Eastern Time on the due date.

Unless the deadline is extended pursuant to section 751(a)(3)(A) of the Act, we will issue the final results of this administrative review, including the results of our analysis of the issues raised by the parties in their comments, within 120 days after issuance of these preliminary results.

Assessment Rates and Cash Deposit Requirements

In accordance with 19 CFR 351.221(b)(4)(i), we assigned a subsidy rate for each producer/exporter subject to this administrative review. Upon issuance of the final results, the Department shall determine, and CBP shall assess, countervailing duties on all appropriate entries covered by this review. We intend to issue instructions to CBP 15 days after publication of the final results of review.

Pursuant to section 751(a)(2)(C) of the Act, the Department also intends to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results are issued and published in accordance with sections 751(a)(1) and 777(i)(1) of the Act, and 19 CFR 351.221(b)(4).

Dated: June 2, 2014.
Paul Piquado,
Assistant Secretary for Enforcement and Compliance.

Appendix I

List of Topics Discussed in the Preliminary Decision Memorandum

I. Summary

II. Background

III. Scope of the Order

IV. Discussion of the Methodology

V. Recommendation

Appendix II

List of Remaining Companies Under Review

ANH (Xinyi) Refractories Co. Ltd

Anyang Rongzhu Silicon Industry Co., Ltd

Bayuquan Refractories Co., Ltd

Beijing Tianxing Ceramic Fiber Composite Materials Corp

Changxing Magnesium Furnace Charge Co., Ltd

Changxing Wangfa Architectural & Metallurgical Materials Co., Ltd

Changzing Zhicheng Refractory Material Factory

China Metallurgical Raw Material Beijing Company

China Quantai Metallurgical (Beijing) Engineering & Science Co., Ltd

Cimm Group of China

CNBM International Corporation

Dalian Dalmond Trading Co., Ltd

Dalian F.T.Z. Huaxin International

Dalian F.T.Z. Maylong Resources Co., Ltd

Dalian Huayu Refractories International Co., Ltd

Dalian LST Metallurgy Co., Ltd

Dalian Masoo International Trading

Dalian Mayerton Refractories Ltd

Dalian Morgan Refractories Ltd

Dashiqiao Bozhong Mineral Products Co., Ltd

Dashiqiao City Guangcheng Refractory Co., Ltd

Dashiqiao Jia Sheng Mining Co., Ltd

Dashiqiao RongXing Refractory Material Co., Ltd

Dashiqiao Sanqiang Refractory Material Co., Ltd

Dashiqiao Yutong Packing Factory

Dengfeng Desheng Refractory Co., Ltd

DFL Minmet Refractories Corp

Duferco BarInvest SA Beijing Office

Duferco Ironet Shanghai Representative Office

Eastern Industries & Trading Co., Ltd

Fengchi Mining Co., Ltd of Haicheng City

Fengchi Refractories Corp

Haicheng City Qunli Mining Co., Ltd

Haicheng City Xiyang Import & Export Corporation

Haicheng Donghe Taidi Refractory Co., Ltd

Haicheng Ruitong Mining Co., Ltd

Haiyuan Talc Powder Manufacture Factory

Henan Boma Co. Ltd

Henan Kingway Chemicals Co., Ltd

Henan Tagore Refractories Co., Ltd

Henan Xinmi Changzxing Refractories, Co., Ltd

Hebei Qinghe Refractory Group Co. Ltd

Huailin Refractories (Dashiqiao) Pte. Ltd

Hualude Hardware Products Co. Ltd

Jiangsu Sujia Group New Materials Co., Ltd

Jiangsu Sujia Joint-Stock Co., Ltd

Jinan Forever Imp. & Exp. Trading Co., Ltd

Jinan Linquan Imp. & Exp. Co. Ltd

Jinan Ludong Refractory Co., Ltd

Kosmokraft Refractory Limited

Kuehne & Nagel Ltd. Dalian Branch Office

Lechang City Guangdong Province SongXin Refractories Co., Ltd

Liaoning Fucheng Refractories Group Co., Ltd

Liaoning Fucheng Special Refractory Co., Ltd

Liaoning Jiayi Metals & Minerals Ltd

Liaoning Jinding Magnesite Group

Liaoning Mayerton Refractories Co., Ltd

Liaoning Mineral & Metallurgy Group Co., Ltd

Liaoning Qunyi Group Refractories Co., Ltd

Liaoning Qunyi Trade Co., Ltd

Liaoning RHI Jinding Magnesis Co., Ltd

LiShuang Refractory Industrial Co., Ltd

Lithomelt Co., Ltd

Luheng Refractory Co., Ltd

Luoyang Refractory Group Co., Ltd

Mayerton Refractories

Minsource International Ltd

Minteq International Inc

National Minerals Co., Ltd

North Refractories Co., Ltd

Orestar Metals & Minerals Co., Ltd

Oreworld Trade (Tangshan) Co., Ltd

Puyang Refractories Co., Ltd

Qingdao Almatis Co., Ltd. (HQ)

Qingdao Almatis Co., Ltd. (Manufacturing)

Qingdao Almatis Trading Co., Ltd. (Sales Office)

Qingdao Blueshell Import & Export Corp

Qingdao Fujing Group Co., Ltd

Qingdao Huierde International Trade Co., Ltd

RHI Refractories (Dalian) Co., Ltd

RHI Refractories Liaoning Co., Ltd

RHI Trading Shanghai Branch

RHI Trading (Dalian) Co., Ltd

Rongyuan Magnesite Co., Ltd. of Dashiqiao City

Shandong Cambridge International Trade Inc

Shandong Lunai Kiln Refractories Co., Ltd

Shandong Refractories Corp

Shanxi Dajin International (Group) Co., Ltd

Shanxi Xinrong International Trade Co. Ltd

Shenyang Yi Xin Sheng Lai Refractory Materials Co., Ltd

Shinagawa Rongyuan Refractories Co., Ltd

Sinosteel Corporation

SMMC Group Co., Ltd

Tangshan Success Import & Export Trading Co., Ltd

Tianjin New Century Refractories, Ltd

Tianjin New World Import & Export Trading Co., Ltd

Tianjin Weiyuan Refractory Co., Ltd

Vesuvius Advanced Ceramics (Suzhou) Co. Ltd

Wonjin Refractories Co., Ltd

Xiyuan Xingquan Forsterite Co., Ltd

Yanshi City Guangming High-Tech Refractories Products Co., Ltd

YHS Minerals Co., Ltd

Yingkou Bayuquan Refractories Co., Ltd

Yingkou Dalmond Refractories Co., Ltd

Yingkou Guangyang Refractories Co., Ltd

Yingkou Guangyang Refractories Co., Ltd. (YGR)

Yingkou Heping Samwha Minerals Co., Ltd

Yingkou Jiahe Refractories Co., Ltd

Yingkou Jinlong Refractories Group

Yingkou Kyushu Refractories Co., Ltd

Yingkou New Century Refractories Ltd

Yingkou Qinghua Group Imp. & Exp. Co., Ltd

Yingkou Qinghua Refractories Co., Ltd

Yingkou Sanhua Refractory Materials Co., Ltd

Yingkou Tianrun Refractory Co., Ltd

Yingkou Wonjin Refractory Material Co., Ltd

Yingkou Yongji Mag Refractory, Ltd

Yixing Runlong Trade Co., Ltd

Yixing Xinwei Leeshing Refractory Materials Co., Ltd

Yixing Zhenqiu Charging Ltd

Zhejiang Changxing Guangming Special Refractory Material Foundry, Co., Ltd

Zhejiang Deqing Jinlei Refractory Co., Ltd

Zhejiang Huzhou Fuzilin Refractory Metals Group Co., Ltd

Zhengzhou Annec Industrial Co., Ltd

Zhengzhou Huachen Refractory Co., Ltd

Zhengzhou Huawei Refractories Co., Ltd

Zibo Lianzhu Refractory Materials Co., Ltd

[FR Doc. 2014-13259 Filed 6-6-14; 8:45 am]

BILLING CODE 3510-DS-P